DEPARTMENT OF COMMERCE

International Trade Administration

[A-351-841, A-520-803, A-570-924]

Polyethylene Terephthalate Film, Sheet, and Strip From Brazil, the People's Republic of China, and the United Arab Emirates: Continuation and Revocation of Antidumping Duty Orders

AGENCY: Enforcement and Compliance, International Trade Administration, Department of Commerce.

SUMMARY: As a result of the determinations by the Department of Commerce (the Department) and the International Trade Commission (the ITC) in their five year (sunset) reviews that revocation of the antidumping duty (AD) order on polyethylene terephthalate film, sheet, and strip (PET Film) from the People's Republic of China (PRC) and the United Arab Emirates (UAE) would likely lead to a continuation or recurrence of dumping and material injury to an industry in the United States, the Department is publishing a notice of continuation for these antidumping duty orders. As a result of the ITC's determination that revocation of the AD order on PET Film from Brazil is not likely to lead to the continuation or recurrence of material injury to an industry in the United States, the Department is revoking this AD order.

DATES: Effective Date: AD Brazil Revocation: November 10, 2013; AD PRC and UAE Continuation: February 6, 2015.

FOR FURTHER INFORMATION CONTACT: Jacqueline Arrowsmith, Office VII, AD/CVD Operations, Enforcement and Compliance, International Trade Administration, U.S. Department of Commerce, 14th Street and Constitution Avenue NW., Washington, DC 20230; telephone: (202) 482-5255.

SUPPLEMENTARY INFORMATION:

Background

On October 1, 2013, the Department initiated the sunset reviews on the AD orders on PET film from Brazil, the PRC, and the UAE pursuant to section 751(c) of the Tariff Act of 1930, as amended (the Act).¹ As a result of the reviews, the Department found that revocation of the AD orders on PET Film from Brazil, the PRC, and the UAE would likely to lead to continuation or recurrence of dumping, and notified the ITC of the margins of dumping likely to prevail should the order be revoked.²

¹ See Initiation of Five year (“Sunset”) Review, 78 FR 60253 (October 1, 2013).

² See Polyethylene Terephthalate Film, Sheet and Strip From Brazil, the People's Republic of China, and the United Arab Emirates: Final Results of the Expedited Sunset Reviews of the Antidumping Duty Orders, 79 FR 10095, (February 24, 2014).

On January 23, 2015, the ITC published its determination, pursuant to section 751(c)(1) and section 752(a) of the Act, that revocation of the AD order on PET Film the PRC and the UAE would be likely to lead to the continuation or recurrence of material injury within a reasonably foreseeable time, but that revocation of the AD order on PET Film from Brazil would not be likely to do so.³

³ See Polyethylene Terephthalate Film, Sheet, and Strip from Brazil, China, and the United Arab Emirates, 80 FR 3623 (January 23, 2015). On the same day, the ITC also determined that revocation of the antidumping orders of PET Film from the PRC and the UAE would lead to a continuation or recurrence of material injury to an industry in the United States within a reasonably foreseeable time.

Scope of the Order

The products covered by this order are all gauges of raw, pre-treated, or primed PET film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.0090 of the Harmonized Tariff Schedule of the United States (HTSUS). While HTSUS subheadings are provided for convenience and customs purposes, our written description of the scope of the order is dispositive.

Scope Determinations on PET Film From the PRC

Since these orders were published, there was one scope determination for PET film from the PRC, with notice of the decision published on July 1, 2010. In this determination, requested by Coated Fabrics Company, the Department determined that Amorphous PET (“APET”), Glycol-modified PET (“PETG”), and coextruded APET with PETG on its outer surfaces (“GAG Sheet”), are within the scope of the antidumping duty order of PET Film from the PRC.⁴

⁴ See Notice of Scope Rulings, 75 FR 38081 (July 1, 2010).

Continuation of the Order on PET Film From the PRC and the UAE

As a result of the determinations by the Department and the ITC that revocation of these antidumping duty orders would likely lead to a continuation or recurrence of dumping and material injury to an industry in the United States, pursuant to sections 751(c) and 751(d)(2) of the Act, the Department hereby orders the continuation of the AD order on PET Film from the PRC and the UAE. U.S. Customs and Border Protection (CBP) will continue to collect antidumping duty cash deposits at the rates in effect at the time of entry for all imports of subject merchandise.

The effective date of the continuation of this order will be the date of publication in the Federal Register of this notice of continuation. Pursuant to section 751(c)(2) of the Act, the Department intends to initiate the next five-year review of this order not later than 30 days prior to the fifth anniversary of the effective date of continuation.

Revocation of the Order on PET Film From Brazil

As a result of the determination by the ITC that revocation of this AD order is not likely to lead to the continuation or recurrence of material injury to an industry in the United States, the Department is revoking the AD order on PET Film from Brazil. Pursuant to section 751(d)(2) of the Act and 19 CFR 351.222(i)(2)(i), the effective date of revocation is November 10, 2013 (i.e., the fifth anniversary of the date of publication in the Federal Register of the order ⁵).

⁵ See Polyethylene Terephthalate Film, Sheet, and Strip From Brazil, the People's Republic of China and the United Arab Emirates: Antidumping Duty Orders and Amended Final Determination of Sales at Less Than Fair Value for United Arab Emirates, 73 FR 66595 (November 10, 2008).

Cash Deposit and Assessment of Duties on PET Film From Brazil

The Department will notify U.S. Customs and Border Protection (CBP), 15 days after the publication of this notice, to terminate the suspension of liquidation and to discontinue the collection of cash deposits on entries of PET Film from Brazil, entered or withdrawn from warehouse, on or after November 10, 2013. The Department will further instruct CBP to refund with interest all cash deposits on entries made on or after November 10, 2013. Entries of subject merchandise prior to the effective date of revocation will continue to be subject to suspension of liquidation and AD deposit requirements and assessments. The Department will complete any pending or requested administrative reviews of the order on PET Film from Brazil covering entries prior to November 10, 2013.

Administrative Protective Order

This notice also serves as the only reminder to parties subject to administrative protective order (APO) of their responsibility concerning the return/destruction or conversion to judicial protective order of proprietary information disclosed under APO in accordance with 19 CFR 351.305(a)(3). Failure to comply is a violation of the APO which, may be subject to sanctions.

This five-year (sunset) review and notice are in accordance with sections 751(c) and 751(d)(2), and 777(i) of the Act, and 19 CFR 351.218(f)(4).

Dated: January 30, 2015.
Paul Piquado,
Assistant Secretary for Enforcement and Compliance.

[FR Doc. 2015-02456 Filed 2-5-15; 8:45 am]

BILLING CODE 3510-DS-P